ENVIRONMENTAL PROTECTION AGENCY

[ER-FRL-9049-3]

Environmental Impact Statements; Notice of Availability

Responsible Agency: Office of Federal Activities, General Information 202-564-5632 or https://www.epa.gov/nepa/.

Weekly receipt of Environmental Impact Statements

Filed January 27, 2020, 10 a.m. EST Through February 3, 2020, 10 a.m. EST

Pursuant to 40 CFR 1506.9.

Section 309(a) of the Clean Air Act requires that EPA make public its comments on EISs issued by other Federal agencies. EPA's comment letters on EISs are available at: https://cdxnodengn.epa.gov/cdx-enepa-public/action/eis/search.

EIS No. 20200023, Final, FERC, CA, Bucks Creek Hydropower Project, Review Period Ends: 03/09/2020, Contact: Office of External Affairs 866-208-3372

EIS No. 20200024, Final, FHWA, NC, I-26 Asheville Connector, Review Period Ends: 03/16/2020, Contact: Clarence W. Coleman 919-747-7014

EIS No. 20200025, Draft Supplement, FDOT, FHWA, FL, Tampa Interstate Study, Comment Period Ends: 03/23/2020, Contact: Luis D. Lopez Rivera 407-867-6420

EIS No. 20200026, Final, USACE, TX, Houston Ship Channel Expansion Channel Improvement Project, Review Period Ends: 03/09/2020, Contact: Harmon Brown 409-766-3837

EIS No. 20200027, Draft, BLM, CO, Parkdale Quarry Expansion Project, Comment Period Ends: 03/23/2020, Contact: Stephanie Carter 719-269-8551

EIS No. 20200028, Draft, MARAD, USCG, TX, SPOT Terminals LLC Deepwater Port License Application, Comment Period Ends: 03/23/2020, Contact: William Nabach 202-372-1437

EIS No. 20200029, Final, USACE, FL, Loxahatchee River Watershed Restoration Project Final Integrated Project Implementation Report and Environmental Impact Statement, Review Period Ends: 03/09/2020, Contact: Ann B. Hodgson 904-232-3691

Dated: February 3, 2020.
Robert Tomiak,
Director, Office of Federal Activities.

[FR Doc. 2020-02452 Filed 2-6-20; 8:45 am]

BILLING CODE 6560-50-P